DEPARTMENT OF HEALTH AND HUMAN SERVICES

Centers for Medicare & Medicaid Services

[CMS-5054-N]

Medicare, Medicaid, Children's Health Insurance Program, Private Health Insurance Program; Health Equity Advisory Committee; Establishment & Nomination Request

AGENCY: Centers for Medicare & Medicaid Services (CMS), HHS.

ACTION: Notice.

SUMMARY: This notice announces the establishment of the Centers for Medicare and Medicaid Services (CMS) Health Equity Advisory Committee (the “Committee”) and solicits nominations for members to be appointed to the Committee by the Director of the CMS Office of Minority Health. The Committee is established to advise and make recommendations to CMS on the identification and resolution of systemic barriers to accessing CMS programs that hinder quality of care for beneficiaries and consumers. The Committee will focus on health disparities in underserved communities, which are populations sharing a particular characteristic, as well as geographic communities, that have been systematically denied a full opportunity to participate in aspects of economic, social, and civic life, such as but not limited to Black, Latino, and Indigenous and Native American persons, Asian Americans and Pacific Islanders and other persons of color; members of religious minorities; lesbian, gay, bisexual, transgender, and queer persons; persons with disabilities; persons who live in rural areas; and persons otherwise adversely affected by persistent poverty or inequality as defined in the Executive Order, Advancing Racial Equity and Support for Underserved Communities Through the Federal Government.

DATES: Nominations must be received no later than December 12, 2024.

ADDRESSES: Nominations and requests for copies of the Health Equity Advisory Committee (HEAC) Charter may be submitted to the address specified below. Please do not submit duplicates. Nominations or requests for copies of the HEAC Charter must be submitted by email to HEAC@cms.hhs.gov with the subject line “HEAC Nomination” or “HEAC Request for Charter,” depending on the content of the email.

FOR FURTHER INFORMATION CONTACT: Iris Allen, Centers for Medicare & Medicaid Services, HHS, at (410) 786-1633.

Press inquiries may be submitted by phone at (202) 690-6145 or by email press@cms.hhs.gov.

SUPPLEMENTARY INFORMATION:

I. Background

The Health Equity Advisory Committee (the “Committee” or “HEAC”) is established to advise and make recommendations to the Centers for Medicare & Medicaid Services (CMS) on the identification and resolution of systemic barriers to accessing CMS programs that hinder quality of care for beneficiaries and consumers. Consistent with Executive Order (E.O.) 13985, Advancing Racial Equity and Support for Underserved Communities through the Federal Government,¹ the Committee will seek to advise and make recommendations to CMS on ensuring all eligible individuals can access CMS programs and identify how CMS can deliver benefits equitably to all people enrolled in CMS programs. The Committee will also serve as a dedicated platform for CMS collaboration with key interested persons to advance health equity by identifying how CMS can promote quality and access for beneficiaries of all CMS programs. The Committee will help CMS consider a broad range of views and information from interested and impacted audiences of CMS programs. The Committee's focus on health equity will address health disparities in underserved communities, which are populations sharing a particular characteristic, as well as geographic communities, that have been systematically denied a full opportunity to participate in aspects of economic, social, and civic life, such as but not limited to Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.²

¹ 86 FR 7009, January 25, 2021.

² 86 FR 7009, January 25, 2021.

II. Charter, General Responsibilities, and Composition of the CMS Health Equity Advisory Committee

A. Charter Information and General Responsibilities

On July 26, 2024, the Secretary of Health and Human Services finalized the Charter establishing the HEAC. The HEAC shall advise the Secretary and the CMS Administrator concerning optimal strategies for those enrolled in, or eligible for Medicare, Medicaid and CHIP, or health coverage available through the Health Insurance Marketplace and other CMS programs, that eliminate or reduce systemic barriers including:

• Enhancing the federal government's effectiveness in understanding and promoting the consistent and systemic fair, just and impartial treatment of all individuals as outlined in the Executive Order within their health program policies.

• Developing and implementing opportunities to increase coordination and engagement with community-based organizations.

• Developing and implementing strategies to assess whether, and to what extent, the agency's programs and policies perpetuate systemic barriers to opportunities and benefits.

A copy of the Charter for the HEAC may be obtained by submitting a written request to the email address specified in the ADDRESSES section of this notice.

B. Composition of the Health Equity Advisory Committee (HEAC)

The Committee must consist of individuals that have expertise working with underserved communities that have been denied fair, just, and impartial treatment, such as Black, Latino, American Indian and Alaska Native persons, Asian and Pacific Islanders and other persons of color; members of religious minorities; LGBTQ+ persons; persons with disabilities; persons who live in rural areas; and persons who are otherwise adversely affected by persistent poverty or inequality. The members may be selected by the CMS Administrator, or their designee, and must be knowledgeable in the fields of health equity; outreach to underserved populations; community/safety net providers; disability policy and access; and/or other relevant health equity matters that are presented or addressed by the agency. The Committee may also be comprised of Special Government Employees and Representative Members.

III. Submissions of Nominations

The Secretary is requesting nominations for membership in the HEAC. The Secretary also requests nominations for a member to serve as the chairperson of the HEAC. When selecting those members, the Secretary will consider qualified individuals who are nominated by individuals or organizations representing affected stakeholders. The Secretary will make every effort to appoint members to serve on the HEAC from among those candidates determined to have the technical expertise (including expertise from professional and lived experience) required to meet specific agency needs and to ensure an appropriate balance of expertise and experience among the membership. The diversity of expertise in such membership includes expertise on matters such as race, ethnicity, gender, disability, sexual orientation, religious affiliation, geographic location, political status, and gender identity. The Secretary reserves the discretion to appoint members who were not nominated in response to this notice to serve on the HEAC if necessary to meet specific agency needs in a manner that ensures an appropriate balance of membership that is reflective of all of CMS' programs as well as a variety of experiences and backgrounds.

Any interested person or organization may nominate one qualified individual (self-nominations will not be accepted). Each nomination must include the following information:

• A letter of nomination that contains contact information for both the nominator and nominee. One-page maximum.

• A statement from the nominee with an explanation of interest in serving on the HEAC and that they are willing to serve on the HEAC for at least two years. The nominee should also indicate which category or categories of underserved communities specified in section II.B their expertise can represent. One-page maximum.

• A resumé or curriculum vitae that indicates the nominee's educational experience and relevant professional and/or lived experience. Two-pages maximum.

• Two letters of reference that support the nominee's qualifications for membership on the HEAC and how their educational, professional, and/or lived experience aligns with at least one or more of the 5 priority areas within the CMS Framework for Health Equity or one or more of the 6 priority areas within the CMS Framework for Advancing Health Care in Rural, Tribal and Geographically Isolated Communities. Please choose only one framework to align the nominee's experience with a CMS priority area. One-page maximum per letter.

• The 5 Priority Areas within the CMS Framework for Health Equity are—

++ Priority 1: Expand the Collection, Reporting, and Analysis of Standardized Data.

++ Priority 2: Assess Causes of Disparities Within CMS Programs and Address Inequities in Policies and Operations to Close Gaps.

++ Priority 3: Build Capacity of Health Care Organizations and the Workforce to Reduce Health and Health Care Disparities.

++ Priority 4: Advance Language Access, Health Literacy, and the Provision of Culturally Tailored Services.

++ Priority 5: Increase All Forms of Accessibility to Health Care Services and Coverage.

• The 6 Priority Areas within the CMS Framework for Advancing Health Care in Rural, Tribal and Geographically Isolated Communities are—

++ Priority 1: Apply a Community-Informed Geographic Lens to CMS Programs and Policies.

++ Priority 2: Increase Collection and Use of Standardized Data to Improve Health Care for Rural, Tribal, and Geographically Isolated Communities.

++ Priority 3: Strengthen and Support Health Care Professionals in Rural, Tribal, and Geographically Isolated Communities.

++ Priority 4: Optimize Medical and Communication Technology for Rural, Tribal, and Geographically Isolated Communities.

++ Priority 5: Expand Access to Comprehensive Health Care Coverage, Benefits, and Services and Supports for Individuals in Rural, Tribal, and Geographically Isolated Communities.

++ Priority 6: Drive Innovation and Value-Based Care in Rural, Tribal, and Geographically Isolated Communities.

To ensure that a nomination is considered, CMS must receive all the nomination information specified in section III of this notice by December 12, 2024. Nominations should be emailed to the appropriate address specified in the ADDRESSES section of this notice.

The Administrator of the Centers for Medicare & Medicaid Services (CMS), Chiquita Brooks-LaSure, having reviewed and approved this document, authorizes Vanessa Garcia, who is the Federal Register Liaison, to electronically sign this document for purposes of publication in the Federal Register.

Vanessa Garcia,
Federal Register Liaison, Centers for Medicare & Medicaid Services.

[FR Doc. 2024-25966 Filed 11-7-24; 8:45 am]

BILLING CODE 4120-01-P